ENVIRONMENTAL PROTECTION AGENCY

[EPA-HQ-OPP-2013-0742; FRL 9915-92-OEI]

Agency Information Collection Activities; Submission of Unreasonable Adverse Effects Information Under FIFRA Section 6(a)(2); ICR Submitted to OMB for Review and Approval; Comment Request

AGENCY: Environmental Protection Agency (EPA).

ACTION: Notice.

SUMMARY: EPA has submitted the following information collection request (ICR) to the Office of Management and Budget (OMB) for review and approval in accordance with the Paperwork Reduction Act (PRA) (44 U.S.C. 3501 et seq.): Submission of Unreasonable Adverse Effects Information Under FIFRA Section 6(a)(2) (EPA ICR No. 1204.12, OMB Control No. 2070-0039). The ICR, which is available in the docket along with other related materials, provides a detailed explanation of the collection activities and the burden estimate that is only briefly summarized in this document. EPA did not receive any comments in response to the previously provided public review opportunity issued in the Federal Register on February 5, 2014 (79 FR 6897). With this submission, EPA is providing an additional 30 days for public review.

DATES: Comments must be received on or before October 15, 2014.

ADDRESSES: Submit your comments, identified by docket identification (ID) number EPA-HQ-OPP-2013-0742, to both EPA and OMB as follows:

• To EPA online using http://www.regulations.gov (our preferred method), or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI) or other information whose disclosure is restricted by statute.

FOR FURTHER INFORMATION CONTACT: Amaris Johnson, Field and External Affairs Division, 7506P, Environmental Protection Agency, 1200 Pennsylvania Ave. NW., Washington, DC 20460; telephone number: 703-305-9542; fax number: 703-305-5884; email address: TSCAHotline@epa.gov.

SUPPLEMENTARY INFORMATION: Docket: Supporting documents, including the ICR that explains in detail the information collection activities and the related burden and cost estimates that are summarized in this document, are available in the docket for this ICR. The docket can be viewed online at http://www.regulations.gov or in person at the EPA Docket Center, EPA West, Room 3334, 1301 Constitution Ave. NW., Washington, DC. The telephone number for the Docket Center is 202-566-1744. For additional information about EPA's docket, visit http://www.epa.gov.dockets.

ICR status: This ICR is currently scheduled to expire on September 30, 2014. Under OMB regulations, the Agency may continue to conduct or sponsor the collection of information while this submission is pending at OMB. If an activity requires PRA approval, an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: Section 6(a)(2) of the Federal Insecticide, Fungicide and Rodenticide Act (FIFRA) (7 U.S.C. 136d(a)(2)), requires pesticide registrants to submit information to the Agency that may be relevant to the balancing of the risks and benefits of a pesticide product. The statute requires the registrant to submit any factual information that it acquires regarding adverse effects associated with its pesticidal products, and it is up to the Agency to determine whether or not that factual information constitutes an unreasonable adverse effect. In order to limit the amount of less meaningful information that might be submitted to the Agency, the EPA has defined the scope of factual information that the registrant must submit. The Agency's regulations at 40 CFR part 159 provide a detailed description of the reporting obligations of registrants under FIFRA section 6(a)(2).

Respondents/affected entities: Potential respondents affected by the collection activities under this ICR include anyone who holds or ever held a registration for a pesticide product issued under FIFRA section 3 or 24(c). The North American Industrial Classification System (NAICS) code is 325300 (Pesticide, Fertilizer and other Agricultural Chemical Manufacturing).

Respondent's obligation to respond: Mandatory under FIFRA section 6(a)(2) and the requirements listed at 40 CFR part 159.

Estimated number of respondents: 1,763 (total).

Frequency of response: On occasion.

Total estimated burden: 275,014 hours (per year). Burden is defined at 5 CFR 1320.3(b).

Total estimated cost: $16,827,821 (per year), includes no annualized capital investment or maintenance and operational costs.

Changes in the estimates: There is an increase of 71,778 hours in the total estimated respondent burden compared with the ICR currently approved by OMB. This increase reflects EPA's updating of burden estimates for this collection based upon historical information on the number of responses received and a small increase in the number of registrants of products, which results in a small increase in the additional employees being trained. This change is an adjustment.

List of Subjects

Environmental protection, Reporting and recordkeeping requirements.

Spencer W. Clark,
Acting Director, Collection Strategies Division.

[FR Doc. 2014-21842 Filed 9-12-14; 8:45 am]

BILLING CODE 6560-50-P